NUCLEAR REGULATORY COMMISSION

[Docket No. 50-312; NRC-2018-0180]

Sacramento Municipal Utility District; Rancho Seco Nuclear Generating Station; Correction

AGENCY: Nuclear Regulatory Commission.

ACTION: License termination; issuance; correction.

SUMMARY: The U.S. Nuclear Regulatory Commission (NRC) is correcting a notice that was published in the Federal Register (FR) on September 11, 2018, regarding the termination of Operating License (Possession Only) No. DPR-54 for the Rancho Seco Nuclear Generating Station. This action is necessary to replace the first paragraph in the Supplementary Information section with the following: “The NRC has terminated License No. DPR-54, held by Sacramento Municipal Utility District (SMUD), for Rancho Seco in Herald, California, and has approved the site for unrestricted release. Accordingly, the existing indemnity agreement between SMUD and the NRC has been amended.”

DATES: The correction is effective December 11, 2018.

ADDRESSES: Please refer to Docket ID NRC-2018-0180 when contacting the NRC about the availability of information regarding this document. You may obtain publicly-available information related to this document using any of the following methods:

• Federal Rulemaking Website: Go to http://www.regulations.gov and search for Docket ID NRC-2018-0180. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Ted Carter, Office of Nuclear Material Safety and Safeguards, U.S. Nuclear Regulatory Commission, Washington, DC 20555-0001; telephone: 301-415-5543, email: Ted.Carter@nrc.gov.

SUPPLEMENTARY INFORMATION: In the Federal Register on September 11, 2018 (83 FR 45994), in FR Doc. 2017-19602, on page 45994, under the SUPPLEMENTARY INFORMATION section, the first paragraph should be replaced with the following: “The NRC has terminated License No. DPR-54, held by Sacramento Municipal Utility District (SMUD), for Rancho Seco in Herald, California, and has approved the site for unrestricted release. Accordingly, the existing indemnity agreement between SMUD and the NRC has been amended.”

Specifically, the last word (terminated) in the first paragraph, should be replaced with “amended” to accurately reflect the action.

Dated at Rockville, Maryland, this 4th day of December 2018.
For the Nuclear Regulatory Commission.
Amy Snyder,
Acting Chief, Reactor Decommissioning Branch, Division of Decommissioning, Uranium Recovery, and Waste Programs, Office of Nuclear Material Safety and Safeguards.

[FR Doc. 2018-26744 Filed 12-10-18; 8:45 am]

BILLING CODE 7590-01-P